DEPARTMENT OF COMMERCE

International Trade Administration

[A-570-093]

Refillable Stainless Steel Kegs From the People's Republic of China: Preliminary Results of Antidumping Duty Administrative Review and Preliminary Determination of No Shipments; 2019-2020

AGENCY: Enforcement and Compliance, International Trade Administration, Department of Commerce.

SUMMARY: The Department of Commerce (Commerce) preliminarily finds that certain producers and/or exporters made sales of refillable stainless steel kegs (kegs) at less than normal value and that one company had no shipments of subject merchandise during the period of review (POR) December 13, 2019, through November 30, 2020. Interested parties are invited to comment on these preliminary results of review.

DATES: Applicable January 5, 2022.

FOR FURTHER INFORMATION CONTACT: Michael Romani and Konrad Ptaszynski, AD/CVD Operations, Office I, Enforcement and Compliance, International Trade Administration, U.S. Department of Commerce, 1401 Constitution Avenue NW, Washington, DC 20230; telephone: (202) 482-0198 or (202) 482-6187, respectively.

SUPPLEMENTARY INFORMATION:

Background

On December 16, 2019, we published in the Federal Register an antidumping duty order on kegs from the People's Republic of China (China).¹ On December 2, 2020, we published in the Federal Register a notice of opportunity to request an administrative review of the Order.² On February 4, 2021, based on timely requests for an administrative review, Commerce initiated the administrative review of the antidumping duty order on kegs.³ The administrative review covers 30 companies, which includes the mandatory respondent, Guangzhou Ulix Industrial & Trading Co., Ltd. (Ulix).⁴

¹ See Refillable Stainless Steel Kegs from the Federal Republic of Germany and the People's Republic of China: Antidumping Duty Orders, 84 FR 68405 (December 2, 2020) (Order).

² See Antidumping or Countervailing Duty Order, Finding, or Suspended Investigation; Opportunity to Request Administrative Review, 85 FR 77431 (December 2, 2020).

³ See Initiation of Antidumping and Countervailing Duty Administrative Reviews, 86 FR 8166 (February 4, 2021) (Initiation Notice).

⁴ See Memorandum, “Administrative Review of Refillable Stainless Steel Kegs from the People's Republic of China: Respondent Selection,” dated May 12, 2021.

Scope of the Order

The products covered by this Order are refillable stainless steel kegs. A full description of the scope of the Order is provided in the Preliminary Decision Memorandum.⁵

⁵ See Memorandum, “Refillable Stainless Steel Kegs from the People's Republic of China: Decision Memorandum for the Preliminary Results of Antidumping Duty Administrative Review and Preliminary Determination of No Shipments; 2019-2020,” dated concurrently with, and hereby adopted by, this notice (Preliminary Decision Memorandum).

Preliminary Determination of No Shipments

One company that received a separate rate in previous segments of the proceeding and is subject to this review did not have any exports of subject merchandise during the POR.⁶ Based on information on the record, we preliminarily determine that Guangzhou Jingye Machinery Co., Ltd. (Jingye)'s had no shipments of subject merchandise during the POR. Consistent with our practice in non-market economy (NME) cases, we are not rescinding this review with respect to these companies but, rather, intend to complete the review and issue appropriate instructions to CBP based on the final results of the review.⁷ For additional information regarding these preliminary determinations, see the Preliminary Decision Memorandum.

⁶ See Memorandum “U.S. Customs and Border Protection (CBP) Data Release,” dated February 19, 2021 at Attachment 1; see also Memorandum “U.S. Customs and Border Protection (CBP) Data Release,” dated May 12, 2021 at Attachment 1.

⁷ See Non-Market Economy Antidumping Proceedings: Assessment of Antidumping Duties, 76 FR 65694, 65694-95 (October 24, 2011); see also the “Assessment Rates” section, below.

China-Wide Entity

Under Commerce's policy regarding the conditional review of the China-wide entity,⁸ the China-wide entity will not be under review unless a party specifically requests, or Commerce self-initiates, a review of the entity. Because no party requested a review of the China-wide entity in this review, the entity is not under review, and the entity's rate (i.e., 77.13 percent) is not subject to change.⁹ Aside from the no-shipment companies discussed above, Commerce considers all other companies for which a review was requested (none of which filed a separate rate application) listed in Appendix II to this notice, to be part of the China-wide entity.¹⁰

⁸ See Antidumping Proceedings: Announcement of Change in Department Practice for Respondent Selection in Antidumping Duty Proceedings and Conditional Review of the Nonmarket Economy Entity in NME Antidumping Duty Proceedings, 78 FR 65963 (November 4, 2013).

⁹ See Order.

¹⁰ See Initiation Notice, 86 FR 8166, 8167 (January 11, 2018) (“All firms listed below that wish to qualify for separate rate status in the administrative reviews involving NME countries must complete, as appropriate, either a separate rate application or certification, as described below.”). See Appendix II for the list of companies that are subject to this administrative review that are considered to be part of the China-wide entity.

Methodology

Commerce is conducting this review in accordance with section 751(a)(1)(B) of the Tariff Act of 1930, as amended (the Act).

For a full description of the methodology underlying our conclusions, see the Preliminary Decision Memorandum. The Preliminary Decision Memorandum is a public document and is on file electronically via Enforcement and Compliance's Antidumping and Countervailing Duty Centralized Electronic Service System (ACCESS). ACCESS is available to registered users at https://access.trade.gov. A list of topics discussed in the Preliminary Decision Memorandum is included as an appendix to this notice. In addition, a complete version of the Preliminary Decision Memorandum can be found at https://access.trade.gov/public/FRNoticesListLayout.aspx.

Preliminary Results of the Administrative Review

Commerce preliminarily determines that the following weighted-average dumping margin exists for the administrative review covering the period December 13, 2019, through November 30, 2020:

Exporters | Weighted- average dumping margin (percent)
Guangzhou Ulix Industrial & Trading Co., Ltd | 0.00

Disclosure

Commerce intends to disclose to parties to the proceeding the calculations performed for these preliminary results of review within five days of the date of publication of this notice in the Federal Register in accordance with 19 CFR 351.224(b).

Public Comment

Because Commerce intends to request additional information after these preliminary results, interested parties will be provided an opportunity to submit written comments (case briefs) at a date to be determined by Commerce and rebuttal comments (rebuttal briefs) within seven days after the time limit for filing case briefs.¹¹ Pursuant to 19 CFR 351.309(d)(2), rebuttal briefs must be limited to issues raised in the case briefs.¹² Commerce modified certain of its requirements for serving documents containing business proprietary information until further notice.¹³ Parties who submit case briefs or rebuttal briefs in this proceeding are encouraged to submit with each argument: (1) A statement of the issue; (2) a brief summary of the argument; and (3) a table of authorities.¹⁴

¹¹ See 19 CFR 351.309(c)(l)(ii) and 351.309(d)(l). Interested parties will be notified through ACCESS regarding the deadline for submitting case briefs; see also 19 CFR 351.303 (for general filing requirements); Temporary Rule Modifying AD/CVD Service Requirements Due to COVID-19, 85 FR 17006 (March 26, 2020); and Temporary Rule Modifying AD/CVD Service Requirements Due to COVID-19; Extension of Effective Period, 85 FR 41363 (July 10, 2020)).

¹² See 19 CFR 351.309; see also 19 CFR 351.303 (for general filing requirements).

¹³ See Temporary Rule Modifying AD/CVD Service Requirements Due to COVID-19; Extension of Effective Period, 85 FR 41363 (July 10, 2020).

¹⁴ See 19 CFR 351.309(c)(2) and (d)(2) and 19 CFR 351.303 (for general filing requirements).

Unless the deadline is extended, Commerce intends to issue the final results of this review, including the results of its analysis of the issues raised in any written briefs, no later than 120 days after the date of publication of this notice, pursuant to section 751(a)(3)(A) of the Act and 19 CFR 351.213(h).

Assessment Rates

Upon issuing the final results, Commerce will determine, and U.S. Customs and Border Protection (CBP) shall assess, antidumping duties on all appropriate entries covered by this review.¹⁵ If the preliminary results are unchanged for the final results, we will instruct CBP to apply an ad valorem assessment rate of 77.13 percent to all entries of subject merchandise during the POR which were exported by the companies listed in Appendix II of this notice. If Commerce determines that an exporter under review had no shipments of the subject merchandise, any suspended entries that entered under that exporter's case number (i.e., at that exporter's rate) will be liquidated at the China-wide rate.¹⁶

¹⁵ See 19 CFR 351.212(b)(1).

¹⁶ See Non-Market Economy Antidumping Proceedings: Assessment of Antidumping Duties, 76 FR 65694, 65695 (October 24, 2011).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this review for shipments of the subject merchandise from China entered, or withdrawn from warehouse, for consumption on or after the publication date, as provided by section 751(a)(2)(C) of the Act: (1) For the subject merchandise exported by the company listed above that has a separate rate, the cash deposit rate will be equal to the weighted-average dumping margin established in the final results of this administrative review (except, if the rate is zero or de minimis, then zero cash deposit will be required); (2) for previously investigated or reviewed Chinese and non-Chinese exporters not listed above that received a separate rate in a prior segment of this proceeding, the cash deposit rate will continue to be the existing exporter-specific rate; (3) for all Chinese exporters of subject merchandise that have not been found to be entitled to a separate rate, the cash deposit rate will be that for the China-wide entity; and (4) for all non-Chinese exporters of subject merchandise which have not received their own rate, the cash deposit rate will be the rate applicable to the Chinese exporter that supplied that non-Chinese exporter. These deposit requirements, when imposed, shall remain in effect until further notice.

Notification to Importers

This notice serves as a preliminary reminder to importers of their responsibility under 19 CFR 351.402(f)(2) to file a certificate regarding the reimbursement of antidumping duties prior to liquidation of the relevant entries during these PORs. Failure to comply with this requirement could result in Commerce's presumption that reimbursement of antidumping duties occurred and the subsequent assessment of double antidumping duties.

Notification to Interested Parties

Commerce is issuing and publishing the preliminary results of this review in accordance with sections 751(a)(1)(B), 751(a)(3) and 777(i) of the Act, and 19 CFR 351.213 and 351.221(b)(4).

Dated: December 29, 2021.
Ryan Majerus,
Deputy Assistant Secretary for Policy and Negotiations, Performing the Non-Exclusive Functions and Duties of the Assistant Secretary for Enforcement and Compliance.

Appendix I

List of Topics Discussed in the Preliminary Decision Memorandum

I. Summary

II. Background

III. Scope of the Order

IV. Preliminary Determination of No Shipments

V. Discussion of the Methodology

VI. Adjustment Under Section 777A(f) of the Act

VII. Recommendation

Appendix II

Companies that are subject to this administrative review that are considered to be part of the China-wide entity are:

1. Equipmentimes (Dalian) E-Commerce Co., Ltd.

2. Jinan HaoLu Machinery Equipment Co., Ltd.

3. NDL Keg Qingdao Inc.

4. Ningbo BestFriends Beverage Containers Industry Co., Ltd.

5. Ningbo Chance International Trade Co., Ltd.

6. Ningbo Direct Import & Export Co., Ltd.

7. Ningbo Haishu Direct Import and Export Trade Co., Ltd.

8. Ningbo Haishu Xiangsheng Metal Factory

9. Ningbo Hefeng Container Manufacturer Co., Ltd.

10. Ningbo Hefeng Kitchen Utensils Manufacture Co., Ltd.

11. Ningbo HGM Food Machinery Co., Ltd.

12. Ningbo Jiangbei Bei Fu Industry and Trade Co., Ltd.

13. Ningbo Kegco International Trade Co., Ltd.

14. Ningbo Minke Import & Export Co., Ltd.

15. Ningbo Sanfino Import & Export Co., Ltd.

16. Ningbo Shimaotong International Co., Ltd.

17. Ningbo Sunburst International Trading Co., Ltd.

18. Orient Equipment (Taizhou) Co., Ltd.

19. Penglai Jinfu Stainless Steel Products

20. Qingdao Henka Precision Technology Co., Ltd

21. Rain Star International Trading Dalian Co., Ltd.

22. Shandong Tiantai Beer Equipment Co., Ltd.

23. Shandong Tonsen Equipment Co., Ltd.

24. Sino Dragon Group, Ltd.

25. Wenzhou Deli Machinery Equipment Co.

26. Wuxi Taihu Lamps and Lanterns Co., Ltd.

27. Yantai Toptech Ltd.

28. Yantai Trano New Material Co., Ltd

[FR Doc. 2021-28558 Filed 1-4-22; 8:45 am]

BILLING CODE 3510-DS-P